DEPARTMENT OF THE INTERIOR

Fish and Wildlife Service

[FWS-R3-R-2008-N0047; 30136-1265-0000-S3]

Final Comprehensive Conservation Plan and Environmental Impact Statement for the Trempealeau National Wildlife Refuge, Wisconsin

AGENCY: Fish and Wildlife Service, Interior.

ACTION: Notice of availability.

SUMMARY: The U.S. Fish and Wildlife Service announces that the Final Comprehensive Conservation Plan (CCP) and Environmental Impact Statement (EIS) is available for Trempealeau National Wildlife Refuge.

The Final CCP/EIS was prepared pursuant to the National Wildlife Refuge System Administration Act of 1966, as amended by the National Wildlife Refuge System Improvement Act of 1997, and the National Environmental Policy Act of 1969. Goals and objectives in the CCP describe how the agency intends to manage the refuge over the next 15 years.

DATES: A Record of Decision will be signed by the Regional Director, U.S. Fish and Wildlife Service, Region 3, Fort Snelling, Minnesota, no sooner than 30 days after publication of this notice by the Environmental Protection Agency, in the Federal Register.

ADDRESSES: Copies of the Final CCP/EIS may be viewed at the Trempealeau National Wildlife Refuge Headquarters and public libraries near the refuge. You may access and download a copy via the Planning Web site at http://www.fws.gov/midwest/planning/trempealeau, or you may obtain a copy on compact disk by contacting: U.S. Fish and Wildlife Service, Division of Conservation Planning, Bishop Henry Whipple Federal Building, 1 Federal Drive, Fort Snelling, Minnesota 55111 (1-800-247-1247, extension 5429) or Trempealeau National Wildlife Refuge, W28488 Refuge Road, Trempealeau, WI 54661-7246 (608-539-2311). A limited number of hardcopies for distribution will be available at the Refuge Headquarters.

FOR FURTHER INFORMATION CONTACT: Vickie Hirschboeck, (608) 539-2311 extension 12.

SUPPLEMENTARY INFORMATION: The Refuge, established by an Executive Order in 1936 to provide a refuge and breeding ground for migratory birds and other wildlife, encompasses 6,226 acres. The Refuge is part of the Upper Mississippi River National Wildlife and Fish Refuge Complex. An estimated 70,000 visitors enjoy birding, hiking, biking, hunting, fishing, or photography at the Refuge. Over 2,000 young people learn about their environment each year through education programs. A dedicated force of volunteers contributes to the quality of the visitor experience, as well as successful habitat management.

The Draft CCP/EIS was released for public review June 12, 2007, for a 60-day comment period ending August 11, 2007. During the comment period the Refuge hosted a public meeting and a workshop attended by a total of 28 people. We received written comments from 18 individuals, two special interest groups, and two governmental agencies during the comment period.

In response to comments by the State of Wisconsin Department of Natural Resources, we made three modifications to species lists, added three strategies, and modified one objective and accompanying strategy in the preferred alternative. We also amended our discussion of climate change impacts. We consider all modifications minor.

When the Record of Decision is available, we will publish a notice of availability in the Federal Register. The Record of Decision will document which alternative in the Final CCP/EIS will become the 15-year CCP for the Refuge.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: February 15, 2008.
Charles M. Wooley,
Acting Regional Director, U.S. Fish and Wildlife Service, Fort Snelling, Minnesota.

[FR Doc. E8-7911 Filed 4-14-08; 8:45 am]

BILLING CODE 4310-55-P